FEDERAL COMMUNICATIONS COMMISSION

47 CFR Part 73

[DA 00-2002; MM Docket No. 99-151; RM-9559; RM-9932]

Radio Broadcasting Services; Rangely, Ridgway and Silverton, CO

AGENCY: Federal Communications Commission.

ACTION: Final rule.

SUMMARY: In response to a proposal filed by Mountain West Broadcasting, the Commission allots Channel 279C1 to Rangely, Colorado, as that community's first local aural transmission service. See 64 FR 26719, May 17, 1999. Additionally, in response to a counterproposal filed on behalf of Idaho Broadcasting Consortium, Inc. (RM-9932), permittee for Station KBNG, Channel 279C2, Silverton, Colorado, the Commission substitutes Channel 279C1 for Channel 279C2 at Silverton, reallots Channel 279C1 to Ridgway, Colorado, as that community's first local aural transmission service, and modifies the authorization for Station KBNG, as requested. Additionally, the Commission allots Channel 238A to Silverton, Colorado. Coordinates used for Channel 279C1 at Rangely, Colorado, are 40-05-06 NL and 108-48-18 WL. The coordinates for Channel 279C1 at Ridgway, Colorado, are 38-03-18 NL and 107-41-40 WL. Coordinates for Channel 238A at Silverton, Colorado, are 37-48-42 NL and 107-40-00 WL.

DATES: Effective October 16, 2000. A filing window for Channel 279C1 at Rangely, Colorado, and for Channel 238A at Silverton, Colorado, will not be opened at this time. Instead, the issue of opening a filing window for those channels will be addressed by the Commission in a subsequent Order.

ADDRESSES: Federal Communications Commission, Washington, DC 20554.

FOR FURTHER INFORMATION CONTACT: Allocations Branch, Mass Media Bureau, (202) 418-2180. Questions related to the application process for Channel 279C1 at Rangely, Colorado and for Channel 238A at Silverton, Colorado, should be addressed to the Audio Services Division, (202) 418-2700.

SUPPLEMENTARY INFORMATION: This is a synopsis of the Commission's Report and Order, MM Docket No. 99-151, adopted August 30, 2000, and released September 1, 2000. The full text of this Commission decision is available for inspection and copying during normal business hours in the FCC's Reference Information Center (Room CY-A257), 445 Twelfth Street, SW., Washington, DC. The complete text of this decision may also be purchased from the Commission's copy contractor, International Transcription Service, Inc., 1231 20th Street, NW., Washington, DC 20036, (202) 857-3800.

List of Subjects in 47 CFR Part 73

Radio broadcasting.

Part 73 of title 47 of the Code of Federal Regulations is amended as follows:

PART 73—[AMENDED]

1. The authority citation for part 73 continues to read as follows:

Authority: 47 U.S.C. 154, 303, 334, 336.

§ 73.202 [Amended]

2. Section 73.202(b), the Table of FM Allotments under Colorado, is amended by adding Rangely, Channel 279C1.

3. Section 73.202(b), the Table of FM Allotments under Colorado, is amended by adding Ridgway, Channel 279C1.

4. Section 73.202(b), the Table of FM Allotments under Colorado, is amended by removing Channel 279C2 and adding Channel 238A at Silverton.

Federal Communications Commission.
John A. Karousos,
Chief, Allocations Branch, Policy and Rules Division, Mass Media Bureau.

[FR Doc. 00-23696 Filed 9-14-00; 8:45 am]

BILLING CODE 6712-01-P